DEPARTMENT OF HOUSING AND URBAN DEVELOPMENT

[Docket No. FR-5683-N-99]

30-Day Notice of Proposed Information Collection: Quality Control for Rental Assistance Subsidy Determinations

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 18, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street, SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 10, 2013.

A. Overview of Information Collection

Title of Information Collection: Quality Control for Rental Assistance Subsidy Determinations.

OMB Approval Number: 2528-0203.

Type of Request: Revision of a currently approved.

Form Number: None.

Description of the need for the information and proposed use: The Department is conducting under contract a study to update its estimates of the extent and type of errors associated with income, rent, and subsidy determinations for the 4.3 million households covered by the Public Housing and Section 8 housing subsidies. The Quality Control process involves selecting a nationally representative sample of assisted households to measure the extent and types of errors in rent and income determinations, which in turn cause subsidy errors. On-site tenant interviews, file reviews, third-party income verifications, and income matching with other Federal data are conducted. The data obtained are used to identify the most serious problems and their associated costs. HUD program officers are then responsible for designing and implementing corrective actions. In addition to providing current estimates of error, results will be compared with those from previous years' studies. These comparisons will indicate whether corrective actions initiated since the 2000 study have been effective and if changes in priorities are needed. The first QC study was completed in 1996 and found that about one-half of the errors measured using on-site tenant interviews and file reviews could not be detected with the 50058/50059 from data collected by the Department, which is why HUD and other agencies with means-tested programs have determined that on-site reviews and interviews are an essential complement to remote monitoring measures. The 2000 study showed that the calculation errors detectable with 50058/50059 data had decreased, probably because this information was increasingly subject to automated computational checks. HUD has initiated a program of corrective actions and increased monitoring since 2000 and recent studies of tenant certification and recertification actions showed significant error reductions in income and rent determinations. Future studies are planned on an annual basis, as required by legislation. Program monitoring and income matching policies being implemented may eliminate the need for an independent, statistically valid measure of program errors provided by the current study design, but such procedures have yet to be fully implemented and evaluated. The Improper Payments Act of 2002 requires that the Department report on the error measurements annually. This propose data collection approval request is for studies to be conducted in 2011, 2012, 2013 and 2014 of prior year certification and recertification actions.

Respondents (i.e. affected public): Recipients of Public Housing and Section 8 Housing Assistance subsidies.

Estimation of the total number of hours needed to prepare the information collection, including the number of respondents, frequency of response, and hours of response: For each study, approximately 600 PHA/program sponsor staff will need to be asked about recertification procedures, training, interview procedures, and problems encountered in conducting (re)certifications. Although more than one staff member may need to be contacted to obtain answers to all questions, the questionnaire will be administered once at each participating project and the total interview times are expected to be less than 40 minutes per PHA or project. Researchers will survey approximately 2,400 program participants to obtain information on household composition, expenses, and income. The time required for these interviews will vary, but is estimated to require an average of about 50 minutes per interview. The time estimates provided are based on the 2011 QC survey. The proposed surveys will continue to make use of Computer Assisted Interviewing (CAI) questionnaires and equipment, which are being used in part because they reduce interview times. The software also provides for consistency check and ensures that all needed data have been collected, thereby reducing the need for the follow-up contacts.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: November 6, 2013.
Colette Pollard,
Department Reports Management Officer, Office of the Chief Information Officer.

[FR Doc. 2013-27504 Filed 11-15-13; 8:45 am]

BILLING CODE 4210-67-P